DEPARTMENT OF TRANSPORTATION

National Highway Traffic Safety Administration

[U.S. DOT Docket Number NHTSA-01-9402]

Reports, Forms, and Record Keeping Requirements

AGENCY: National Highway Traffic Safety Administration (NHTSA), Department of Transportation.

ACTION: Request for extension of a currently approved collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before June 22, 2001.

ADDRESSES: Comments must refer to the docket notice numbers cited at the beginning of this notice and be submitted to Docket Management, Room PL-401, 400 Seventh Street, SW., Washington, DC 20590. Please identify the proposed collection of information for which a comment is provided, by referencing its OMB clearance number. It is requested, but not required, that 2 copies of the comment be provided. The Docket Section is open on weekdays from 10 a.m. to 5 p.m.

FOR FURTHER INFORMATION CONTACT: Complete copies of each request for collection of information may be obtained at no charge from Mr. P. L. Moore, NHTSA 400 Seventh Street, SW., room #5320-C, NPS-32,Washington, DC 20590. Mr. Moore's telephone number is (202) 366-5222. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g. permitting electronic submission of responses.

In compliance with these requirements, NHTSA asks for public comments on the following proposed collections of information:

Title: 49 CFR 575-104.

OMB Control Number: 2127-0519.

Affected Public: All passenger car tire manufacturers and brand name owners offering passenger car tires for sale in the United States.

Form Number: This collection of information uses no standard form.

Abstract: Part 575 requires tire manufacturers and tire brand owners to submit reports to NHTSA regarding the UTQGS grades of all passenger car tire lines they offer for sale in the United States. This information is used by consumers of passenger car tires to compare tire quality in making their purchase decisions. The information is provided in several different ways to insure that the consumer can readily see and understand the tire grades: (1) The grades are molded into the sidewall of the tire so that they can be reviewed on both the new tires and the old tires that are to be replaced; (2) a paper label is affixed to the tread face of the new tires that provides the grades of that particular tireline along with an explanation of the grading system; (3) tire manufacturers provide dealers with brochures for public distribution listing the grades of all of the tirelines they offer for sale; and (4) NHTSA compiles the grading information of all manufacturers' tirelines into a booklet that is available to the public both in printed form and on the website.

Estimated Annual Burden to the Manufacturer: NHTSA estimates that a total of 72,450 man-hours are required to write the brochures, engrave the new passenger car tire molds, and affix the paper labels to the tires. Based on an average hourly rate of $18.00 per hour for rubber workers in the United States, the total cost to the manufacturers is $1,304,100.00 to perform those items listed above. The largest portion of the cost burden imposed by the UTQGS program arises from the testing necessary to determine the grades that should be assigned to the tires. An average of 125 convoys, consisting of four vehicles each, are run each year for treadwear testing. NHTSA estimates it cost $0.46 per vehicle mile including salaries, overhead, and reports. This brings the annual treadwear testing cost to $1,656,000.00. For traction testing, it is estimated that 1,500 tires are tested annually with an estimated cost of $33,000 for use of the government test facility. Using a factor of 3.5 times the $33,000 to cover salary and overhead of test contractors, the estimated cost of traction testing is $115,500. The temperature grade test for tires is an extension of the high speed performance test of 49 CFR 571.109 that is required for safety certification. The additional cost for UTQGS temperature grading is minimal. Thus, the total estimated cost for testing is $1,771,500. The cost of printing the tread labels and brochures is estimated at $900,000. This yields a total annual financial burden of $3,975,600 (approximately $4 million) on the tire manufacturers.

Estimated Annual Burden to the Government: The annual estimated cost of reviewing, storing and displaying the information submissions is 250 man-hours at $10.00 per hour, for a cost of $2,500 per year. Printing and distributing the Consumer Guide to Uniform Tire Quality Grading costs about $5,000 per year. The total cost to the Government runs about $7,500 per year.

Number of Respondents: 130. The actual number of respondents is much less than the 130 individual tire brands. In light of company acquisitions, company mergers, and the actual manufacturers reporting for the various individual brand names that they produce tires for, the actual number of respondents is about 83 individual responses.

Issued on April 17, 2001.
Stephen R. Kratzke,
Associate Administrator for Safety Performance Standards.

[FR Doc. 01-9995 Filed 4-20-01; 8:45 am]

BILLING CODE 4910-59-P